DEPARTMENT OF TRANSPORTATION

National Highway Traffic Safety Administration

[Docket No. NHTSA-2016-0094; Notice 1]

Michelin North America, Inc., Receipt of Petition for Decision of Inconsequential Noncompliance

AGENCY: National Highway Traffic Safety Administration (NHTSA), Department of Transportation (DOT).

ACTION: Receipt of petition.

SUMMARY: Michelin North America, Inc. (MNA), has determined that certain MNA tires do not fully comply with paragraph S6.5(d) of Federal Motor Vehicle Safety Standard (FMVSS) No. 119, New pneumatic tires for motor vehicles with a GVWR of more than 4,536 kilograms (10,000 pounds) and motorcycles. MNA filed a report dated September 1, 2016, pursuant to 49 CFR part 573, Defect and Noncompliance Responsibility and Reports. MNA then petitioned NHTSA under 49 CFR part 556 for a decision that the subject noncompliance is inconsequential as it relates to motor vehicle safety.

DATES: The closing date for comments on the petition is December 12, 2016.

ADDRESSES: Interested persons are invited to submit written data, views, and arguments on this petition. Comments must refer to the docket and notice number cited in the title of this notice and submitted by any of the following methods:

• Mail: Send comments by mail addressed to U.S. Department of Transportation, Docket Operations, M-30, West Building Ground Floor, Room W12-140, 1200 New Jersey Avenue SE., Washington, DC 20590.

• Hand Delivery: Deliver comments by hand to U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by logging onto the Federal Docket Management System (FDMS) Web site at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the Internet at https://www.regulations.gov by following the online instructions for accessing the dockets. The docket ID number for this petition is shown in the heading of this notice.

DOT's complete Privacy Act Statement is available for review in a Federal Register notice published on April 11, 2000, (65 FR 19477-78).

SUPPLEMENTARY INFORMATION:

I. Overview

Pursuant to 49 U.S.C. 30118(d) and 30120(h) and their implementing regulations at 49 CFR part 556, MNA submitted a petition for an exemption from the notification and remedy requirements of 49 U.S.C. Chapter 301 on the basis that this noncompliance is inconsequential as it relates to motor vehicle safety.

This notice of receipt of MNA's petition is published under 49 U.S.C. 30118 and 30120 and does not represent any agency decision or other exercise of judgment concerning the merits of the petition.

II. Tires Involved

Affected are approximately 184 Michelin Pilot Power 3 size 180/55ZR17 M/C (73W) replacement tires manufactured between April 17, 2016, and May 7, 2016 that are primarily intended for street use on sport motorcycles.

III. Noncompliance

MNA describes the noncompliance as the inadvertent omission of the markings that designate the maximum load and corresponding inflation pressure for the load, as required by paragraph S6.5(d) of FMVSS No. 119.

IV. Rule Text

Paragraph S6.5(d) of FMVSS No. 119 provides, in pertinent part:

S6.5 Tire markings. Except as specified in this paragraph, each tire shall be marked on each sidewall with the information specified in paragraphs (a) through (j) of this section . . .

(d) The maximum load rating and corresponding inflation pressure of the tire, shown as follows:

(Mark on tires rated for single and dual load): Max load single __kg (__lb) at __kPa (__psi) cold. Max load dual __kg (__lb) at __kPa (__psi) cold.

(Mark on tires rated only for single load): Max load __kg (__lb) at __kPa (__psi) cold . . .

V. Summary of MNA's Petition

MNA described the subject noncompliance and stated its belief that the noncompliance is inconsequential as it relates to motor vehicle safety.

In support of its petition, MNA submitted the following reasoning:

(a) Installation—The subject tires provide sidewall markings that include the correct industry standard tire size identified as “180/55ZR17 M/C,” the service description identified as “(73W)” using an ISO load index and speed symbol, and the load range identified as Load Range “B.” This properly and precisely identifies the tire for correct installation.

(b) Inflation Pressure—The correct application pressures for the front and rear positions are identified on the motorcycle vehicle placard as required by 49 CFR part 567 and in the owner's manual, and these sources are referred to specifically in information published by NHTSA, motorcycle manufacturers, and tire manufacturers. The inflation pressures furnished by the motorcycle manufacturer via these two sources are the pressures that provide the load capacity and optimum ride and handling characteristics specific to the application. The sidewall marking is not cited as a source for the recommended operating inflation pressure.

a. For example, NHTSA's online “Motorcycle Safety Tips” specifically refers to the owner's manual and vehicle placard: “Look in your motorcycle owner's manual to find the right PSI (pounds per square inch) of air pressure for your tires. Some bike manufacturers also list this information on the bike itself. Common locations include the swing arm, front fork tubes, inside the trunk, and under the seat.”

b. Additionally, the Motorcycle Industry Council Tire Guide explains, “Check the air pressure when the tires are cold. . .and adjust it according to your motorcycle owner's manual or the tire information label on the chain guard, frame, or swingarm.”

c. Similarly, Michelin's Professional Motorcycle Tire Guide 2016 states: “Use the inflation pressure recommended by the motorcycle manufacturer . . . The proper inflation pressures for your motorcycle tires are shown in your motorcycle owner's manual.”

d. The applicable pressure is also a function of the maximum speed capability of the motorcycle, another reason that the proper source for tire inflation pressure is the motorcycle vehicle placard or owner's manual rather than the tire sidewall.

e. Michelin's Professional Motorcycle Tire Guide 2016 and the Motorcycle Industry Tire Guide both advise not to exceed the pressure marked on the sidewall when setting a usage pressure. However, the recommended pressure on the motorcycle vehicle placard and the motorcycle owner's manual conforming to 49 CFR 571.120 will never exceed the sidewall pressure for a properly fitted tire as described above in section “A” (Installation). The tire size, load index, speed symbol, and load range all provide for proper installation. Additionally, the sidewall pressure is not a “maximum” pressure. It is the pressure corresponding to the maximum load. For example, Michelin's Professional Motorcycle Tire Guide 2016 advises that the pressure regulator be set at 60 psi for mounting motorcycle tires, and the Michelin motorcycle Web site FAQ section explains that up to 60 psi of pressure can be used to seat beads when mounting motorcycle tires and then adjusted to the recommended pressure found on the vehicle placard or owner's manual. The sidewall pressure corresponding to the maximum load on the subject tire is 290 kPa or 42 psi.

(c) Max Load Information—The maximum load value corresponding to the ISO load index on the tire is published in Michelin's Professional Motorcycle Tire Guide 2016 available online, the Motorcycle Industry Council Tire Guide available online, as well as a number of retail sites. The ISO load index of “73” and the designation Load Range “B” that are present on the tire provide load description information, and along with the tire size they provide a clear cross reference to the cited publications that offer the load value in pounds if needed. Again, the tire size and load range provided are sufficient to assure the tire is appropriate for the motorcycle and corresponding pressure requirements as a function of speed capability are provided on the vehicle placard as well as the owner's manual.

(d) Other Markings—All other markings conform to the applicable regulations.

(e) Performance—The subject tire meets all performance requirements of FMVSS No. 119.

MNA concluded by expressing the belief that the subject noncompliance is inconsequential as it relates to motor vehicle safety, and that its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject tires that MNA no longer controlled at the time it determined that the noncompliance existed. However, any decision on this petition does not relieve tire distributors and dealers of the prohibitions on the sale, offer for sale, or introduction or delivery for introduction into interstate commerce of the noncompliant tires under their control after MNA notified them that the subject noncompliance existed.

Authority: (49 U.S.C. 30118, 30120: Delegations of authority at 49 CFR 1.95 and 501.8)

Jeffrey M. Giuseppe,
Director, Office of Vehicle Safety Compliance.

[FR Doc. 2016-27118 Filed 11-9-16; 8:45 am]

BILLING CODE 4910-59-P